FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

The Agency has developed criteria for floodplain management in floodprone areas in accordance with 44 CFR Part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD)
CONNECTICUT
Newtown (Town), Fairfield County (FEMA Docket No. D-7516)
Pond Brook:
Approximately 850 feet downstream of Currituck Road | *331
Approximately 440 feet upstream of U.S. Route 6 | *403
Maps available for inspection at the Edmond Town Hall, 45 Main Street, Newtown, Connecticut.
ILLINOIS
Milan (Village), Rock Island County (FEMA Docket Nos D-7512 and D-7528)
Eckhart Creek (Zone AO):
East of Chaney Lane and approximately 500 feet south of Interstate Route 280 | #1
Approximately 600 feet north of W 10th Avenue and approximately 450 feet east of 9th Street | #1
Northwest of Missouri Kansas and Texas Railroad and approximately 600 feet south of Interstate Route 280 | #1
Rock River:
Approximately 0.63 mile downstream of Missouri, Kansas, and Texas Railroad | *564
Approximately 530 feet upstream of U.S. Route 67 | *564
North Channel Rock River:
At confluence with Rock River | *564
Approximately 300 feet downstream of the Sears Dam | *564
Maps available for inspection at the Village of Milan Administrative Office, 321 West 2nd Avenue, Milan, Illinois.
INDIANA
Carmel (City), Hamilton County (FEMA Docket No. D-7512)
Cool Creek:
Approximately 0.975 mile upstream of confluence with West Fork White River | *743
At East 146th Street | *818
Hot Lick Creek:
At confluence with Cool Creek | *770
Approximately 450 feet upstream from confluence with Cool Creek | *770
Little Cool Creek:
At confluence with Cool Creek | *806
Approximately 150 feet downstream of most upstream crossing of East 136th Street | *845
Little Eagle Creek:
At county boundary | *861
At West 146th Street | *865
Kirkendall Creek:
At confluence with Vestal Ditch | *768
At East 146th Street | *770
Mitchener Ditch:
Approximately 100 feet downstream of Cherry Tree Road | *771
At East 146th Street | *804
Spring Mill Run:
Approximately 300 feet upstream of confluence with Williams Creek | *794
At confluence with Well Run | *853
Vestal Ditch:
At confluence with West Fork White River | *746
At East 146th Street | *769
Well Run:
At confluence with Spring Mill Run | *853
Approximately 1,000 feet downstream of Torrey Pines Circle | *860
Maps available for inspection at the City of Carmel Department of Community Services, 1 Civic Square, Carmel, Indiana.
———
Cicero (Town), Hamilton County (FEMA Docket No. D-7510)
Morse Reservoir:
Entire shoreline within community | *814
Maps available for inspection at the Cicero Town Hall, 70 North Byron Street, Cicero, Indiana.
———
Fishers (Town), Hamilton County (FEMA Docket No. D-7510)
Mud Creek:
At East 96th Street | *781
At East 126th Street | *815
Sand Creek:
At East 106th Street | *785
At Interstate 69 | *806
West Fork White River:
Approximately 1.2 miles downstream of confluence of Britton Branch | *745
Approximately 0.8 mile upstream of confluence of Britton Branch | *748
Britton Branch:
At confluence with West Fork White River | *746
Approximately 100 feet downstream of State Route 37 | *809
Maps available for inspection at the Town of Fishers Administrative Offices, One Municipal Drive, Fishers, Indiana.
———
Hamilton County (Unincorporated Areas) (FEMA Docket No. D-7510)
Mud Creek:
Approximately 180 feet downstream of East 146th Street | *831
At Atlantic Road | *845
Sand Creek:
At East 146th Street | *821
At Prairie Baptist Road | *840
Musselman Ditch:
Approximately 1,400 feet upstream of Promise Road | *780
Approximately 0.5 mile upstream of Victory Chapel Road | *795
Kirkendall Creek:
At East 146th Street | *770
At Hinkle Road | *821
Vestal Ditch:
At East 146th Street | *769
Approximately 1,600 feet downstream of East 161st Street | *775
Maps available for inspection at the Hamilton County Government and Judicial Center, One Hamilton County Square, Noblesville, Indiana.
———
Noblesville (City), Hamilton County (FEMA Docket No. D-7510)
Britton Branch:
Just upstream of Allisonville Road | *751
Just downstream of Norfolk and Western Railroad | *800
Elmwood-Wilson Ditch:
At confluence with Stony Creek | *756
Approximately 500 feet downstream of State Route 37 | *768
Kirkendall Creek:
Just upstream of abandoned railroad | *785
Just downstream of East 156th Street | *793
Mallery Granger Ditch:
At confluence with West Fork White River | *765
Approximately 800 feet downstream of East 211th Street | *805
Mill Creek:
At confluence with Sly Run | *766
Approximately 600 feet upstream of Little Chicago Road | *819
Morse Reservoir:
Entire shoreline within community | *814
Musselman Ditch:
At confluence with West Fork White River | *771
Approximately 1,400 feet upstream of Promise Road | *780
Sly Run:
At confluence with Cicero Creek | *762
At confluence of Sly Run East Fork and Sly Run West Fork | *821
Vestal Ditch:
Approximately 200 feet downstream of abandoned railroad | *772
Just downstream of East 161st Street | *776
Sly Run East Fork:
At confluence of Sly Run West Fork | *821
Just downstream of Hinkle Road | *865
Sly Run West Fork:
At confluence of Sly Run East Fork | *821
Approximately 125 feet upstream of Little Chicago Road | *830
Maps available for inspection at the City of Noblesville Department of Planning and Development, 16 South Tenth Street, Noblesville, Indiana.
———
Westfield (Town), Hamilton County (FEMA Docket No. D-7510)
Cool Creek:
Just upstream of East 146th Street | *818
Just downstream of East 186th Street | *870
Grassy Branch:
Approximately 600 feet downstream of Westfield Park Road | *894
Approximately 0.57 mile upstream of State Route 32 | *906
Kirdendall Creek:
Just upstream of Hinkle Road | *822
Just downstream of East 161st Street | *832
Little Eagle Creek:
Approximately 1,250 feet downstream of West 146th Street | *861
Just downstream of Casey Road | *911
North Cool Creek:
Just upstream of East 186th Street | *870
Just downstream of intersection of Tomlinson Road and East 191st Street | *892
Sly Run East Fork:
Just upstream of Hinkle Road | *866
Approximately 0.4 mile upstream of Hinkle Road | *872
Maps available for inspection at the Westfield Town Hall, 130 Penn Street, Westfield, Indiana.
NEW HAMPSHIRE
Errol (Town), Coos County (FEMA Docket No. D-7516)
Akers Pond:
Entire shoreline within community | *1,231
Maps available for inspection at the Errol Town Office Building, 33 Main Street, Errol, New Hampshire.
NORTH CAROLINA
Belmont (City), Gaston County (FEMA Docket No. D-7512)
Catawba River:
Approximately 3,650 feet downstream of Norfolk Southern Railroad | *585
Approximately 250 feet upstream of Interstate 85 | *587
South Fork Catawba River:
Approximately 3.18 miles downstream of Armstrong Ford Road | *571
At Armstrong Ford Road | *571
Curtis Branch:
At the confluence with South Fork Catawba River | *571
Approximately 980 feet upstream of the confluence with South Fork Catawba River | *571
Maps available for inspection at the Belmont City Hall, 115 North Main Street, Belmont, North Carolina.
———
Bessemer City (City), Gaston County (FEMA Docket No. D-7512)
Unnamed Tributary 2 to Long Creek:
Approximately 1,645 feet downstream of Iowa Avenue | *793
Approximately 325 feet upstream of Maine Avenue | *820
Oates Creek:
Approximately 1.12 miles upstream of Interstate 85 | *790
Approximately 1.5 miles upstream of Interstate 85 | *840
Unnamed Tributary 1 to Long Creek:
Approximately 290 feet downstream of Arrowood Dam | *788
Approximately 1,190 feet upstream of Arrowood Dam | *830
Unnamed Tributary to Abernathy Creek:
Approximately 650 feet upstream of Eleventh Street | *789
Approximately 875 feet upstream of Eleventh Street | *790
Maps available for inspection at the Bessemer City Hall, 132 West Virginia Avenue, Room 207, Bessemer City, North Carolina.
———
Cherryville (Town), Gaston County (FEMA Docket No. D-7512)
Beaverdam Creek:
Approximately 150 feet downstream of Sullivan Drive | *868
Approximately 500 feet upstream of Pink Street | *916
Maps available for inspection at the Cherryville Town Hall, 116 South Mountain Street, Cherryville, North Carolina.
———
Cramerton (Town), Gaston County (FEMA Docket No. D-7524)
Duharts Creek:
At the confluence with South Fork Catawba River | *577
Approximately 1.31 miles upstream of 8th Avenue | *611
Maps available for inspection at the Cramerton Town Hall, 155 North Main Street, Cramerton, North Carolina.
———
Gaston County (Unincorporated Areas) (FEMA Docket No. D-7512)
Catawba Creek:
Approximately 838 feet downstream of Union New Hope Road | *588
Approximately 1,475 feet upstream of Beaty Road | *626
Catawba River:
At the confluence with Lake Wylie | *571
Approximately 2.8 miles upstream of the confluence with Dutchman's Creek | *594
Duharts Creek:
Approximately 0.60 mile downstream of Cramerton Road | *604
Approximately 0.35 mile upstream of Lowell-Bethesda Road | *656
Fites Creek:
Approximately 25 feet downstream of CSX Transportation | *615
Approximately 1.1 miles upstream of West Catawba Avenue | *674
Tributary R-5:
Approximately 150 feet downstream of Interstate 85 | *714
Approximately 0.50 mile upstream of Oates Road | *814
Unnamed Tributary 1 to Long Creek:
Approximately 625 feet upstream of the confluence with Long Creek | *773
Approximately 325 feet downstream of Arrowood Dam | *788
Unnamed Tributary 2 to Long Creek:
At the confluence with Long Creek | *741
Approximately 1,645 feet downstream of Iowa Avenue | *793
Unnamed Tributary to Abernathy Creek:
At the confluence with Abernathy Creek | *721
Approximately 625 feet upstream of Eleventh Street | *789
Abernathy Creek:
Approximately 2,250 feet downstream of the confluence of Unnamed Tributary to Abernathy Creek | *716
Approximately 660 feet upstream of Interstate 85 | *771
Beaverdam Creek:
Approximately 425 feet downstream of Dallas Cherryville Highway/State Route 277 | *834
Approximately 25 feet upstream of Pink Street | *916
Oates Creek:
Approximately 100 feet downstream of Interstate 85 | *726
Approximately 1.1 miles upstream of Interstate 85 | *790
Tributary C-10:
At the confluence of Tributary C-10-1 | *715
Approximately 100 feet upstream of East Hudson Boulevard | *732
Tributary C-10-1:
Approximately 575 feet downstream of East Hudson Boulevard | *720
Approximately 650 feet upstream of East Hudson Boulevard | *731
Kittys Branch:
At the confluence with Catawba River | *585
Approximately 40 feet downstream of CSX Transportation | *585
South Fork Catawba River:
At the confluence with Catawba River | *571
At Armstrong Ford Road | *571
Nancy Hanks Branch:
At confluence with Catawba River | *585
Approximately 3,620 feet upstream of the confluence with Catawba River | *585
Stowe Branch:
At the confluence with Catawba River | *585
Approximately 1,470 feet upstream of the confluence of Stowe Tributary | *585
Stowe Tributary:
At the confluence with Stowe Branch | *585
Approximately 1,260 feet upstream of the confluence with Stowe Branch | *585
Maps available for inspection at the Gaston County Planning/Code Enforcement Office, 212 West Main Avenue, Gastonia, North Carolina.
———
Gaston County (Unincorporated Areas) (FEMA Docket No. D-7512)
Gastonia (City), Gaston County (FEMA Docket No. D-7512)
Forest Brook Branch:
At confluence with Catawba Creek | *635
Approximately 125 feet upstream of Pineridge Avenue | *821
Duharts Creek:
Approximately 1,200 feet upstream of Cramerton Road | *629
Approximately 450 feet upstream of Redbud Drive | *666
Catawba Creek:
Approximately 0.85 mile downstream of the confluence with Forest Brook Branch | *625
Approximately 650 feet upstream of Vance Street | *769
Crowders Creek:
Approximately 2,000 feet upstream of the confluence of Tributary R-4 | *688
Approximately 850 feet upstream of the confluence of Tributary R-5 | *688
Tributary C-3:
At the confluence with Catawba Creek | *649
Approximately 1,200 feet upstream of Steeple Chase Road | *696
Tributary C-4:
At the confluence with Catawba Creek | *655
Approximately 2,000 feet upstream of the confluence with Catawba Creek | *681
Tributary C-5:
At the confluence with Catawba Creek | *658
Approximately 1,350 feet upstream of East Hudson Boulevard | *681
Tributary C-5-1:
Approximately 25 feet upstream of the confluence with Tributary C-5 | *658
Approximately 1,325 feet upstream of East Hudson Boulevard | *680
Tributary C-6:
At the confluence with Catawba Creek | *680
Approximately 0.4 mile upstream of East Hudson Boulevard | *735
Tributary C-7:
Approximately 250 feet upstream of the confluence with Catawba Creek | *695
Approximately 480 feet upstream of Laurel Lane | *731
Tributary C-8:
At the confluence with Catawba Creek | *699
Approximately 0.34 mile upstream of Scotch Drive | *736
Tributary C-9:
At the confluence with Catawba Creek | *702
Approximately 0.30 mile upstream of confluence with Catawba Creek | *717
Tributary C-10:
At the confluence with Catawba Creek | *715
Approximately 100 feet upstream of East Hudson Boulevard | *732
Tributary C-10-1:
At the confluence with Tributary C-10 | *715
Approximately 575 feet downstream of East Hudson Boulevard | *720
Tributary C-11:
At the confluence with Catawba Creek | *717
Approximately 1,210 feet upstream of Efird Street | *759
Tributary C-12:
At the confluence with Catawba Creek | *718
Approximately 275 feet upstream of Oakland Street (Abandoned) | *760
Tributary C-14:
At the confluence with Catawba Creek | *728
Approximately 300 feet upstream of Tenth Avenue | *735
Tributary C-15:
At the confluence with Catawba Creek | *737
Approximately 540 feet upstream of Home Trail | *746
Tributary C-16:
At the confluence with Catawba Creek | *744
Approximately 475 feet upstream of the confluence of Tributary C-16-1 | *753
Tributary C-16-1:
At the confluence with Tributary C-16 | *747
Approximately 1,310 feet upstream of the confluence with Tributary C-16 | *758
Tributary R-5:
Approximately 140 feet downstream of the confluence of Oates Creek | *707
Approximately 410 feet upstream of the confluence of Oates Creek | *714
Avon Creek:
At the confluence with Catawba Creek | *703
Approximately 75 feet downstream of U.S. Route 29/74 | *778
Oates Creek:
At the confluence with Tributary R-5 | *708
Approximately 100 feet downstream of Interstate 85 | *726
Maps available for inspection at the City of Gastonia Engineer's Office, 181 South Street, Gastonia, North Carolina.
———
McAdenville (Town), Gaston County (FEMA Docket No. D-7512)
South Fork Catawba River:
Approximately 2,950 feet downstream of Main Street | *584
Approximately 1.9 miles upstream of Highway 85 | *611
Maps available for inspection at the McAdenville Town Hall, 125 Main Street, McAdenville, North Carolina.
———
Mount Holly (City), Gaston County (FEMA Docket No. D-7512)
Catawba River:
Approximately 230 feet upstream of Interstate 85 | *587
Approximately 1,910 feet upstream of confluence of Dutchmans Creek | *591
Fites Creek:
At confluence with Catawba River | *589
Approximately 75 feet downstream of CSX Transportation | *613
Dutchmans Creek:
At confluence with Catawba River | *592
Approximately 3,750 feet upstream of North Main Street | *592
Maps available for inspection at the Mount Holly City Hall, 131 South Main Street, Mount Holly, North Carolina.
Wisconsin
Lincoln County (Unincorporated Areas) (FEMA Docket No. D-7528)
Wisconsin River:
Approximately 1.37 miles downstream of Alexander Dam | *1,258
At downstream side of Alexander Dam | *1,261
Prairie River:
Approximately 660 feet downstream of Mill Street | *1,263
Approximately 1.1 miles upstream of U.S. Business Highway 51 | *1,274
Maps available for inspection at the Lincoln County Zoning Office, 1110 East Main Street, Merrill, Wisconsin.
———
River Falls (City), St. Croix and Pierce Counties (FEMA Docket No. D-7528)
Kinnickinnic River:
Approximately 1.1 miles downstream of the confluence of South Fork Kinnickinnic River | *806
Approximately 400 feet upstream of State Route 35/65 | *898
Rocky Branch:
Approximately 850 feet upstream of confluence with Kinnickinnic River | *805
Approximately 2,230 feet upstream of confluence with Kinnickinnic River | *814
South Fork Kinnickinnic River:
At confluence with Kinnickinnic River | *828
Approximately 575 feet upstream of State Route 35/65 | *906
South Fork Kinnickinnic River Tributary No. 2:
At confluence with South Fork Kinnickinnic River | *906
Approximately 950 feet upstream of South Fork Kinnickinnic River | *907
Maps available for inspection at the River Falls City Hall, 123 East Elm Street, River Falls, Wisconsin.

(Catalog of Federal Domestic Assistance No. 83.100, “Flood Insurance”)

Dated: September 30, 2002.
Anthony S. Lowe,
Administrator, Federal Insurance and Mitigation Administration.

[FR Doc. 02-25958 Filed 10-10-02; 8:45 am]

BILLING CODE 6718-04-P